NATIONAL AERONAUTICS AND SPACE ADMINISTRATION

[Notice (14-102)]

NASA Advisory Council; Institutional Committee; Meeting

AGENCY: National Aeronautics and Space Administration.

ACTION: Notice of meeting.

SUMMARY: In accordance with the Federal Advisory Committee Act, Public Law 92-463, as amended, the National Aeronautics and Space Administration announces a meeting of the NASA Advisory Council (NAC) Institutional Committee. This committee reports to the NAC.

DATES: Wednesday, November 19, 2014, 9:00 a.m.-5:00 p.m., Local Time Thursday, November 20, 2014, 9:00 a.m.-3:30 p.m., Local Time.

ADDRESSES: NASA Headquarters, 300 E Street SW., Room1Q39 (Glennan Conference Room), Washington, DC 20024.

FOR FURTHER INFORMATION CONTACT: Mr. Todd Mullins, NAC Institutional Committee Executive Secretary, NASA Headquarters, Washington, DC 20546, 202-358-3831.

SUPPLEMENTARY INFORMATION: The meeting will be open to the public up to the seating capacity of the room. This meeting is also available telephonically and by WebEx. You must use a touch tone phone to participate in this meeting. Any interested person may dial the toll free access number 844-467-6272 or toll access number 720-259-6462, and then the numeric participant passcode: 180093 followed by the # sign. To join via WebEx on November 19, the link is https://nasa.webex.com/, the meeting number is 996 488 292 and the password is Meeting2014! (Password is case sensitive.) To join via WebEx on November 20, the link is https://nasa.webex.com/, the meeting number is 995 037 119 and the password is Meeting2014! (Password is case sensitive.) NOTE: If dialing in, please “mute” your telephone. The agenda for the meeting will include the following:

—NASA Workforce Overview.

—Grants Processing Overview.

—NASA Facilities Overview.

—NASA IT.

—Technical Capabilities Assessment Team Status.

Attendees will be requested to sign a register and to comply with NASA Headquarters security requirements, including the presentation of a valid picture ID before receiving access to NASA Headquarters. Foreign nationals attending this meeting will be required to provide a copy of their passport and visa in addition to providing the following information no less than 10 working days prior to the meeting: Full name; gender; date/place of birth; citizenship; passport information (number, country, telephone); visa information (number, type, expiration date); employer/affiliation information (name of institution, address, country, telephone); title/position of attendee. To expedite admittance, attendees with U.S. citizenship and Permanent Residents (green card holders) can provide full name and citizenship status 3 working days in advance by contacting Ms. Mary Dunn, via email at mdunn@nasa.gov or by telephone at 202-358-2789. It is imperative that the meeting be held on this date to accommodate the scheduling priorities of the key participants.

Patricia D. Rausch,
Advisory Committee Management Officer, National Aeronautics and Space Administration.

[FR Doc. 2014-25703 Filed 10-28-14; 8:45 am]

BILLING CODE 7510-13-P